DEPARTMENT OF THE INTERIOR

Bureau of Land Management

[LLES956000-L14200000-BJ0000-LXSITRST0000]

Eastern States; Filing of Plats of Survey

AGENCY: Bureau of Land Management, Interior.

ACTION: Notice of Filing of Plat Of Survey; Minnesota, Stay Lifted.

SUMMARY: On Thursday, September 9, 2010, there was published in the Federal Register, Volume 75, Number 174, on page 54910 a notice entitled “Eastern States: Filing of Plats of Survey”. Said notice referenced the stay of the plat of the dependent resurvey of a portion of the South and West boundaries, a portion of the subdivisional lines, and the subdivision of Sections 28-33, and the survey of a tract of land in Section 31 and adjusted record meanders in Sections 31 and 32, in Township 114 North, Range 15 West, of the Fifth Principal Meridian, in the State of Minnesota. This survey was accepted June 22, 2010.

The protest against the survey was dismissed on April 6, 2011 and the plat of survey accepted June 22, 2010, was officially filed in Eastern States Office, Springfield, Virginia, at 7:30 a.m., on May 23, 2011. Copies of the plat will be made available upon request and prepayment of the reproduction fee of $7.50 per copy.

Dated: June 1, 2011.
Dominica VanKoten,
Chief Cadastral Surveyor.

[FR Doc. 2011-14067 Filed 6-7-11; 8:45 am]

BILLING CODE 4310-GJ-P